DEPARTMENT OF THE INTERIOR

Bureau of Land Management

Notice of Intent To Prepare a Resource Management Plan and Environmental Impact Statement for Eastern San Diego County, CA

AGENCY: Bureau of Land Management, Interior.

ACTION: Notice of intent.

SUMMARY: In accordance with the Federal Land Policy and Management Act of 1976 (43 U.S.C. 1701), as amended; the National Environmental Policy Act of 1969 (NEPA) (42 U.S.C. 4321), as amended; and the Council on Environmental Quality (CEQ) regulations (40 CFR parts 1500-1508), the Bureau of Land Management (BLM) will prepare a Resource Management Plan (RMP) for Eastern San Diego County and a Environmental Impact Statement (EIS) to evaluate the effects of land and resource management decisions in the Eastern San Diego County Planning Area.

DATES: BLM will accept written and electronic comments on the scope of the RMP until October 12, 2004 and received by October 22, 2004, and electronic comments received by October 12, 2004. Additional opportunities for public involvement, including a schedule of public meetings, will be announced separately from this notice in local newspapers.

ADDRESSES: You may submit comments by the following methods: Written: Lynnette Elser, Eastern San Diego County Resource Management Plan and EIS, 1661 South 4th Street, El Centro, CA 92243. Electronic: lelser@ca.blm.gov.

FOR FURTHER INFORMATION CONTACT: For general information, including information on how to comment, you may contact Lynnette Elser, Bureau of Land Management, El Centro Field Office, 1661 South 4th Street, El Centro, CA or phone (760) 768-4400.

SUPPLEMENTARY INFORMATION: Individual respondents may request confidentiality. If you wish BLM to withhold your name or street address, except for the city or town, from public view or from disclosure under the Freedom of Information Act, you must state this prominently at the beginning of your written comment. We will honor requests to the extent allowed by law. All submissions from organizations or businesses, and from individuals identifying themselves as representatives or officials of organizations or businesses, will be available for public inspection in their entirety.

Background Information: The Eastern San Diego County Planning Area encompasses 98,902 acres of land administered by the BLM in Eastern San Diego County, California. BLM lands within the Planning Area are administered by the El Centro Field Office and are immediately west of the California Desert Conservation Area. Land management within the Planning Area is currently guided by the Eastern San Diego County Management Framework Plan, completed in 1981. There are two Wilderness Areas (Carrizo Gorge and Sawtooth Mountain) within the Planning Area. There are also four Wilderness Study Areas. Two Areas of Critical Environmental Concern (Table Mountain and McCain Valley) are designated. Lark Canyon Off-Road Vehicle Area is managed for vehicular recreation. Remaining areas are managed in accordance with Multiple Use Classes.

The intent of the current Resource Management Plan and EIS preparation process is to analyze and update land and resource management objectives within the Planning Area. The Resource Management Plan will consider: impacts posed by rapid population and community growth, the need to make resource decisions that are scientifically sound, legally defensible and sustainable resource decisions, the need to provide access to significant energy sources and communication sites, the need for utility corridors, the need for continuation of grazing activities, the need to maximize use of public lands in species recovery and habitat conservation, and the need to provide adequate facilities for safe recreation and visitation on the public lands.

Issues to be addressed in the Resource Management Plan will include recreation, off-highway vehicle use, routes-of-travel designations, wildlife, botanical resources, endangered species, cultural resources, Native American concerns, visual resources, livestock grazing, wilderness, fire management, and mining. Existing wilderness study areas designations will be evaluated. Boundaries and existence of currently designated wilderness areas will not be changed. Compatibility with management plans proposed by other public land management entities for adjacent lands will be considered.

The Resource Management Plan and EIS will be prepared by an interdisciplinary team with specialists for recreation, wilderness, botany, biology, archeology, wildlife, range management, realty, visual resources, geology and mining, range management and planning.

The approved Resource Management Plan will replace the existing East San Diego County Framework Management Plan as the document guiding land and resource management decisions on BLM-administered lands in the Planning Area.

Lynnette Elser,
Acting Field Manager.

[FR Doc. 04-15887 Filed 7-13-04; 8:45 am]

BILLING CODE 4310-40-P